DEPARTMENT OF HOMELAND SECURITY

Coast Guard

[USCG-2004-16980]

Workshop on Propeller-Injury Risk Avoidance Issues in Recreational Boating at the Miami International Boat Show

AGENCY: Coast Guard, DHS.

ACTION: Notice of meeting.

SUMMARY: The U.S. Coast Guard and the American Boat and Yacht Council (ABYC) are sponsoring a workshop to discuss various issues to improve recreational boating safety relating to propeller injuries and measures to avoid them. The workshop will be open to the public.

DATES: The workshop will meet on Friday, February 13, 2004, from 1:30 p.m. to 2:30 p.m. The workshop may close early if all business is finished.

ADDRESSES: The workshop will meet in room A201 (in the A Lobby), Miami Beach Convention Center, 1901 Convention Center Dr., Miami Beach, FL. This notice is available on the Internet at http://dms.dot.gov and at http://uscgboating.org.

FOR FURTHER INFORMATION CONTACT: Richard Blackman, Project Manager, Office of Boating Safety, U.S. Coast Guard, telephone 202-267-6810, fax 202-267-4285 or Caroline Chetelat, Marketing & Communications Manager, American Boat and Yacht Council, telephone 410-956-1050, fax 410-956-2737. If you have questions on viewing material in the docket, call Andrea M. Jenkins, Program Manager, Docket Operations, Department of Transportation, telephone 202-366-0271.

SUPPLEMENTARY INFORMATION: The Commandant of the U.S. Coast Guard is responsible for carrying out the National Recreational Boating Safety Program. Recreational boaters are at risk in recreational boats as a result of incidents causing impact with propellers, lower units and appendages. The Coast Guard is engaged with industry, other government organizations, and the public to raise the level of public awareness regarding this safety risk, encourage technological advancement to lower the level of risk, and consider possible appropriate regulatory action. Although significant progress has been made, the Coast Guard intends to continue its efforts to foster active efforts to eliminate propeller related injury as a significant risk to the boating public.

Based on feedback from prior meetings with marine industry representatives, the workshop will be in a panel format. The panelists were selected based on area of marine industry involvement, and will address relevant new technological developments and provide progress updates on a variety of ongoing efforts, as well as issues and questions raised by attendees at the workshop. We plan to prepare minutes of the workshop discussions and distribute them to everyone who registers attendance at the workshop by signing the attendance list at the workshop. You may also obtain a copy of the minutes from the persons listed under FOR FURTHER INFORMATION CONTACT.

Agenda of Workshop

The agenda includes the following:

(1) Introduction of the panel members and others.

(2) Discussion of prepared issues and questions based on early input from the marine industry.

(3) Discussion of issues and questions raised by attendees at the workshop.

(4) Conclusion.

Procedural

The meeting is open to the public. Please note that the workshop may close early if all business is finished.

Information on Services for Individuals With Disabilities

For information on facilities or services for individuals with disabilities or to request special assistance at the meeting, contact the persons listed under FOR FURTHER INFORMATION CONTACT as soon as possible.

Dated: January 27, 2004.
Kenneth A. Ward,
Captain, U. S. Coast Guard, Acting, Director of Operations Policy.

[FR Doc. 04-2218 Filed 2-3-04; 8:45 am]

BILLING CODE 4910-15-P